DEPARTMENT OF TRANSPORTATION

Federal Aviation Administration

14 CFR Part 39

[Docket No. FAA-2023-1715; Project Identifier MCAI-2023-00548-T; Amendment 39-22640; AD 2023-25-13]

RIN 2120-AA64

Airworthiness Directives; Bombardier, Inc., Airplanes

AGENCY: Federal Aviation Administration (FAA), DOT.

ACTION: Final rule.

SUMMARY: The FAA is adopting a new airworthiness directive (AD) for certain Bombardier, Inc., Model CL-600-2B16 (604 Variant) airplanes. This AD was prompted by a report that some airplanes were delivered without a portable protective breathing equipment (PBE) device located in the left-side forward wardrobe, flight deck, or passenger cabin area of the airplane. This AD requires visually inspecting the forward left side cabin area of the airplane to determine if the portable PBE device is installed and, if not installed, requires installing the portable PBE device along with the associated placard. The FAA is issuing this AD to address the unsafe condition on these products.

DATES: This AD is effective February 7, 2023.

The Director of the Federal Register approved the incorporation by reference of a certain publication listed in this AD as of February 7, 2023.

ADDRESSES:

AD Docket: You may examine the AD docket at regulations.gov under Docket No. FAA-2023-1715; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Bombardier Business Aircraft Customer Response Center, 400 Côte Vertu Road West, Dorval, Québec H4S 1Y9, Canada; telephone 514 855 2999; email: ac.yul@aero.bombardier.com; website: bombardier.com.

• You may view this service information at the FAA, Airworthiness Products Section, Operational Safety Branch, 2200 South 216th St., Des Moines, WA. For information on the availability of this material at the FAA, call 206-231-3195. It is also available at regulations.gov under Docket No. FAA-2023-1715.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Bombardier, Inc., Model CL-600-2B16 (604 Variant) airplanes. The NPRM published in the Federal Register on August 24, 2023 (88 FR 57902). The NPRM was prompted by AD CF-2023-21, dated March 30, 2023, issued by Transport Canada, which is the aviation authority for Canada, (referred to after this as the MCAI). The MCAI states that some airplanes were delivered without a portable PBE device located in the left-side forward wardrobe, or cockpit, or passenger cabin area of the airplane. The portable PBE device is required to meet the certification standards of Transport Canada and the FAA and provides protection for crew members when investigating or combatting a fire in the cabin. In the NPRM, the FAA proposed to require visually inspecting the forward left side cabin area of the airplane to determine if the portable PBE device is installed and, if not installed, would require installing the portable PBE device along with the associated placard. The FAA is issuing this AD to address the unsafe condition on these products.

You may examine the MCAI in the AD docket at regulations.gov under Docket No. FAA-2023-1715.

Discussion of Final Airworthiness Directive

Comments

The following presents the comments received on the NPRM and the FAA's response to each comment.

Request To Add PBE Device Locations

Bombardier requested that the proposed AD be revised to clarify the locations of the portable PBE devices. Bombardier stated that these locations were specified in Transport Canada AD CF-2023-21 and Bombardier Service Bulletin 604-35-008, Revision 02, dated January 13, 2023.

The FAA agrees to add the specified locations and has revised the relevant sections in this AD accordingly.

Request To Clarify Required Service Bulletin Paragraphs

Bombardier requested that paragraph (g) of the proposed AD be revised to change the paragraph reference for verifying installation of the PBE device and placard from “Section 2.B.” of the service information to “Section 2.B.1.”

The FAA agrees to change the paragraph reference as requested and has revised paragraph (g) of this AD accordingly. Likewise, where paragraph (g) of the proposed AD specified installing those parts in accordance with “section 2.B.” of the service information, this has been changed to “paragraph 2.B.(2)” in this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed Bombardier Service Bulletin 604-35-008, Revision 02, dated January 13, 2023. This service information specifies procedures for performing a general visual inspection of the left-side forward wardrobe, or flight deck, or passenger cabin area of the airplane for a portable PBE device and, if missing, installing a portable PBE device and its associated placard. This service information is reasonably available because the interested parties have access to it through their normal course of business or by the means identified in the ADDRESSES section.

Costs of Compliance

The FAA estimates that this AD affects 139 airplanes of U.S. registry. The FAA estimates the following costs to comply with this AD:

Estimated Costs for Required Actions
Labor cost | Parts cost | Cost per product | Cost on U.S. operators
0.5 work-hour × $85 per hour = $43 | $0 | $43 | $5,977

The FAA estimates the following costs to do any necessary on-condition action that would be required based on the results of any required actions. The FAA has no way of determining the number of aircraft that might need this on-condition action:

Estimated Costs of On-Condition Actions
Labor cost | Parts cost | Cost per product
2 work-hours × $85 per hour = $170 | $2,157 | $2,327

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-25-13 Bombardier, Inc.: Amendment 39-22640; Docket No. FAA-2023-1715; Project Identifier MCAI-2023-00548-T.

(a) Effective Date

This airworthiness directive (AD) is effective February 7, 2023.

(b) Affected ADs

None.

(c) Applicability

This AD applies to Bombardier, Inc., Model CL-600-2B16 (604 Variant) airplanes, certificated in any category, with serial numbers as identified in the Bombardier Service Bulletin 604-35-008, Revision 02, dated January 13, 2023.

(d) Subject

Air Transport Association (ATA) of America Code: 35, Oxygen.

(e) Unsafe Condition

This AD was prompted by a report that some airplanes were delivered without a portable protective breathing equipment (PBE) device located in the left-side forward wardrobe, flight deck, or passenger cabin area of the airplane. The FAA is issuing this AD to address a missing portable PBE device. The unsafe condition, if not addressed, could result in inadequate protection for crew members when investigating or combatting a fire in the cabin.

(f) Compliance

Comply with this AD within the compliance times specified, unless already done.

(g) Visual Inspection for Portable PBE

Within 12 months from the effective date of this AD, do a general visual inspection of the left-side forward wardrobe, flight deck, or passenger cabin area of the airplane and verify if a portable PBE device, marked with Technical Standard Order (TSO) C116 or C116a, is installed and placarded, in accordance with paragraph 2.B.(1) of the Accomplishment Instructions of Bombardier Service Bulletin 604-35-008, Revision 02, dated January 13, 2023. If the PBE device is missing, before further flight, install a portable PBE device marked with TSO C116 or TSO C116a and its associated placard, in accordance with paragraph 2.B.(2) of the Accomplishment Instructions of Bombardier Service Bulletin 604-35-008, Revision 02, dated January 13, 2023.

(h) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager, International Validation Branch, mail it to the address identified in paragraph (i)(2) of this AD or email to: 9-AVS-AIR-730-AMOC@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada or Bombardier, Inc.'s Transport Canada Design Approval Organization (DAO). If approved by the DAO, the approval must include the DAO-authorized signature.

(i) Additional Information

(1) Refer to Transport Canada AD CF-2023-21, dated March 30, 2023, for related information. This Transport Canada AD may be found in the AD docket at regulations.gov under Docket No. FAA-2023-1715.

(2) For more information about this AD, contact Gabriel Kim, Aviation Safety Engineer, FAA, 1600 Stewart Avenue, Suite 410, Westbury, NY 11590; telephone 516-228-7300; email 9-avs-nyaco-cos@faa.gov.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 604-35-008, Revision 02, dated January 13, 2023.

(ii) [Reserved]

(3) For service information identified in this AD, contact Bombardier, Inc., Business Aircraft Customer Response Center, 400 Côte-Vertu Road West, Dorval, Québec H4S 1Y9, Canada; telephone 514-855-2999; email: ac.yul@aero.bombardier.com; website: bombardier.com.

(4) You may view this service information at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 14, 2023.
Victor Wicklund,
Deputy Director, Compliance & Airworthiness Division, Aircraft Certification Service.

[FR Doc. 2023-28849 Filed 1-2-24; 8:45 am]

BILLING CODE 4910-13-P